DEPARTMENT OF COMMERCE

International Trade Administration

[A-552-823]

Laminated Woven Sacks From the Socialist Republic of Vietnam: Postponement of Final Determination of Sales at Less Than Fair Value Investigation

AGENCY: Enforcement and Compliance, International Trade Administration, Department of Commerce.

SUMMARY: The Department of Commerce (Commerce) is postponing the deadline for issuing the final determination in the less-than-fair-value (LTFV) investigation of laminated woven sacks (LWS) from the Socialist Republic of Vietnam (Vietnam) until February 25, 2019, and is extending the provisional measures from a four-month period to a period of not more than six months.

DATE: Applicable October 23, 2018.

FOR FURTHER INFORMATION CONTACT: Drew Jackson or Celeste Chen, AD/CVD Operations, Office IV, Enforcement and Compliance, International Trade Administration, U.S. Department of Commerce, 1401 Constitution Avenue NW, Washington, DC 20230; telephone: (202) 482-4406 or (202) 482-0890, respectively.

SUPPLEMENTARY INFORMATION:

Background

On March 27, 2018, Commerce initiated a LTFV investigation of imports of LWS from Vietnam.¹ The period of investigation is July 1, 2017, through December 31, 2017. On October 11, 2018, Commerce published its Preliminary Determination in this LTFV investigation of LWS from Vietnam.²

¹ See Laminated Woven Sacks from the Socialist Republic of Vietnam: Initiation of Less-Than-Fair-Value Investigation, 83 FR 14257 (April 3, 2018).

² See Laminated Woven Sacks from the Socialist Republic of Vietnam: Preliminary Determination of Sales at Less Than Fair Value, 83 FR 51436 (October 11, 2018) (Preliminary Determination).

Postponement of Final Determination

Section 735(a)(2) of the Tariff Act of 1930, as amended (the Act), and 19 CFR 351.210(b)(2) provide that a final determination may be postponed until not later than 135 days after the date of the publication of the preliminary determination if, in the event of an affirmative preliminary determination, a request for such postponement is made by the exporters or producers who account for a significant proportion of exports of the subject merchandise, or in the event of a negative preliminary determination, a request for such postponement is made by the petitioners. Further, 19 CFR 351.210(e)(2) requires that such postponement requests by exporters be accompanied by a request for extension of provisional measures from a four-month period to a period of not more than six months, in accordance with section 733(d) of the Act.

On October 2, 2018, Duong Vinh Hoa Packaging Company Limited, a mandatory respondent in this investigation, requested that Commerce postpone the deadline for the final determination until no later than 135 days from the publication of the Preliminary Determination, and extend the application of the provisional measures from a four-month period to a period of not more than six months.³ In accordance with section 735(a)(2)(A) of the Act and 19 CFR 351.210(b)(2)(ii), because (1) the preliminary determination was affirmative; (2) the request was made by the exporters and producers who account for a significant proportion of exports of the subject merchandise; and (3) no compelling reasons for denial exist, Commerce is postponing the final determination until no later than 135 days after the date of the publication of the Preliminary Determination, and extending the provisional measures from a four-month period to a period of not more than six months. Accordingly, Commerce will issue its final determination no later than February 25, 2019.⁴

³ See Letter from Duong Vinh Hoa Packaging Company Limited, “Antidumping Duty Investigation of Laminated Woven Sacks from the Socialist Republic of Vietnam, Case No. A-552-823: Request to Postpone Final Determination” dated October 2, 2018.

⁴ Postponing the final determination to 135 days after the publication of the Preliminary Determination would place the deadline on Saturday/Sunday, February 23, 2019. Commerce's practice dictates that where a deadline falls on a weekend or federal holiday, the appropriate deadline is the next business day. See Notice of Clarification: Application of “Next Business Day” Rule for Administrative Determination Deadlines Pursuant to the Tariff Act of 1930, as Amended, 70 FR 24533 (May 10, 2005).

This notice is issued and published pursuant to 19 CFR 351.210(g).

Dated: October 17, 2018.
Christian Marsh,
Deputy Assistant Secretary for Enforcement and Compliance.

[FR Doc. 2018-23100 Filed 10-22-18; 8:45 am]

BILLING CODE 3510-DS-P